DEPARTMENT OF LABOR

Employment and Training Administration

Investigations Regarding Eligibility To Apply for Worker Adjustment Assistance

Petitions have been filed with the Secretary of Labor under section 221(a) of the Trade Act of 1974 (“the Act”) and are identified in the Appendix to this notice. Upon receipt of these petitions, the Director of the Office of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than July 28, 2016.

Interested persons are invited to submit written comments regarding the subject matter of the investigations to the Director, Office of Trade Adjustment Assistance, at the address shown below, not later than July 28, 2016.

The petitions filed in this case are available for inspection at the Office of the Director, Office of Trade Adjustment Assistance, Employment and Training Administration, U.S. Department of Labor, Room N-5428, 200 Constitution Avenue NW., Washington, DC 20210.

Signed at Washington, DC, this 27th day of June 2016.
Jessica R. Webster,
Certifying Officer, Office of Trade Adjustment Assistance.

Appendix
[81 TAA petitions instituted between 6/6/16 and 6/24/16]
TA-W | Subject firm (petitioners) | Location | Date of institution | Date of petition
91878 | TRUMPF Photonics (State/One-Stop) | Cranbury, NJ | 06/06/16 | 05/31/16
91879 | Cal-Comp USA (Indiana) INC (Workers) | Logansport, IN | 06/06/16 | 06/03/16
91880 | MTE Corporation (Workers) | Menomonee Falls, WI | 06/06/16 | 06/03/16
91881 | WESTAK/Qualitek Inc. (State/One-Stop) | Forest Grove, OR | 06/06/16 | 06/03/16
91882 | SPX Flow Technology, Copes-Vulcan (Workers) | McKean, PA | 06/07/16 | 06/06/16
91883 | Hyundai Ideal Electric Company (Union) | Mansfield, OH | 06/07/16 | 06/06/16
91884 | Kahlenberg Industries (Union) | Two Rivers, WI | 06/07/16 | 06/06/16
91885 | Caterpillar Inc. (Company) | Joliet, IL | 06/07/16 | 06/06/16
91886 | Delta Apparel, Inc. (Company) | Maiden, NC | 06/08/16 | 06/07/16
91887 | Foster Needle Company, Inc. (Company) | Manitowoc, WI | 06/08/16 | 06/07/16
91888 | T-Systems North America, Inc. (State/One-Stop) | Tempe, AZ | 06/08/16 | 06/07/16
91889 | Siemens Corporate (Workers) | Buffalo Grove, IL | 06/08/16 | 05/12/16
91890 | MI Swaco (Drilling Fluids) (Workers) | New Orleans, LA | 06/09/16 | 06/08/16
91891 | Tokyo Ohka Kogyo America, Inc. (State/One-Stop) | Hillsboro, OR | 06/09/16 | 06/08/16
91892 | CDK Global, LLC (State/One-Stop) | Portland, OR | 06/09/16 | 06/08/16
91893 | Sez Sew Stitching, Inc. (Workers) | Osceola Mills, PA | 06/09/16 | 06/07/16
91894 | Brake Parts Inc. (Workers) | Chowchilla, CA | 06/09/16 | 06/08/16
91895 | Jones Energy, Inc. (Workers) | Austin, TX | 06/10/16 | 05/23/16
91896 | Perion Network LTD. (Smilebox) (State/One-Stop) | Redmond, WA | 06/10/16 | 06/08/16
91897 | Intel (State/One-Stop) | Aloha, OR | 06/10/16 | 06/09/16
91898 | Intel (State/One-Stop) | Aloha, OR | 06/10/16 | 06/09/16
91899 | Intel (State/One-Stop) | Hillsboro, OR | 06/10/16 | 06/09/16
91900 | Intel (Hawthorn Farm) (State/One-Stop) | Hillsboro, OR | 06/10/16 | 06/09/16
91901 | Intel (State/One-Stop) | Hillsboro, OR | 06/10/16 | 06/09/16
91902 | Intel (State/One-Stop) | Hillsboro, OR | 06/10/16 | 06/09/16
91903 | Tree Line, Inc (State/One-Stop) | Chester, ME | 06/10/16 | 06/09/16
91904 | Nielsen (State/One-Stop) | Oldsmar, FL | 06/10/16 | 06/09/16
91905 | Aveda (Hodges Trucking) (State/One-Stop) | Oklahoma City, OK | 06/10/16 | 06/09/16
91906 | Hewlett-Packard (State/One-Stop) | New Port Richey, FL | 06/10/16 | 06/10/16
91907 | John Deere—Davenport Works (State/One-Stop) | Davenport, IA | 06/13/16 | 06/10/16
91908 | John Deere—Dubuque Works (State/One-Stop) | Dubuque, IA | 06/13/16 | 06/10/16
91909 | John Deere—Ottumwa Works (State/One-Stop) | Ottumwa, IA | 06/13/16 | 06/10/16
91910 | WireCo World Group (State/One-Stop) | Chillicothe, MO | 06/13/16 | 06/13/16
91911 | Ametek (State/One-Stop) | Tigard, OR | 06/13/16 | 06/10/16
91912 | Twin Rivers Paper Company (Union) | Madawaska, ME | 06/13/16 | 06/10/16
91913 | Helmerich & Payne Drilling Co. (Workers) | Tulsa, OK | 06/13/16 | 06/12/16
91914 | Ocwen Financial Corporation (Company) | Coppell, TX | 06/13/16 | 06/10/16
91915 | DST Systems, Inc. (State/One-Stop) | Baltimore, MD | 06/13/16 | 06/13/16
91916 | Control Devices, LLC (Workers) | Fairview, PA | 06/14/16 | 06/13/16
91917 | Amarillo College of Hairdressing (State/One-Stop) | Amarillo, TX | 06/14/16 | 06/13/16
91918 | GE Oil and Gas (Lufkin Industries) (State/One-Stop) | Lufkin, TX | 06/14/16 | 06/13/16
91919 | Gerdeau (State/One-Stop) | Wilton, IA | 06/14/16 | 06/14/16
91920 | Compucom Systems, Inc., Technical Help Desk Support (State/One-Stop) | Dallas, TX | 06/15/16 | 06/14/16
91921 | Centrex Revenue Solutions (Workers) | Ellicott City, MD | 06/15/16 | 06/14/16
91922 | Seattle-Snohomish Sawmill Co. Inc. (State/One-Stop) | Snohomish, WA | 06/15/16 | 06/14/16
91923 | Experian (Workers) | Allen, TX | 06/15/16 | 06/14/16
91924 | Mattel (State/One-Stop) | El Segundo, CA | 06/15/16 | 06/14/16
91925 | Paragon Geophysical Services Inc. (State/One-Stop) | Wichita, KS | 06/15/16 | 06/14/16
91926 | MetalTek International—Southern Centrifugal Division (Company) | Chattanooga, TN | 06/15/16 | 06/15/16
91927 | DIRECTV/AT&T (Workers) | Tulsa, OK | 06/16/16 | 06/15/16
91928 | Caterpillar Work Tools Inc./Balderson (Company) | Jacksonville, FL | 06/16/16 | 06/15/16
91929 | Sandvik, Inc. (Company) | Stafford, TX | 06/16/16 | 06/16/16
91930 | IBM (State/One-Stop) | Colorado Springs, CO | 06/16/16 | 06/15/16
91931 | Cascade Auto Recycling/Cascade Auto Recycler LLC (State/One-Stop) | Springfield, OR | 06/17/16 | 06/16/16
91932 | Continental Casualty Co. (CNA Insurance) (State/One-Stop) | Syracuse, NY | 06/17/16 | 06/16/16
91933 | Panasonic Avionics Corpration (Workers) | Coppell, TX | 06/17/16 | 06/17/16
91934 | Whirlpool Corp. (State/One-Stop) | Benton Harbor, MI | 06/17/16 | 06/17/16
91935 | Triumph Group, Inc. (State/One-Stop) | Nashville, TN | 06/17/16 | 06/17/16
91936 | REA Magnet Wire (State/One-Stop) | Osceola, AR | 06/20/16 | 06/17/16
91937 | Brookfield Global Relocation Services (State/One-Stop) | Scottsdale, AZ | 06/21/16 | 06/20/16
91938 | Fiat Chrysler Automobiles (Union) | Sterling Heights, MI | 06/21/16 | 06/20/16
91939 | Graphic Packaging International (Union) | Menasha, WI | 06/21/16 | 06/20/16
91940 | Halliburton Sperry Drilling Services (State/One-Stop) | Bakersfield, CA | 06/21/16 | 06/20/16
91941 | Mega Power Inc. (Company) | Hickory, KY | 06/21/16 | 06/20/16
91942 | SM Energy (Midcontinent, Tulsa) (Workers) | Tulsa, OK | 06/21/16 | 05/18/16
91943 | ALM Media LLC (State/One-Stop) | New York, NY | 06/22/16 | 06/21/16
91944 | Static Control Components, Inc. (Workers) | Sanford, NC | 06/22/16 | 06/20/16
91945 | Kennametal Inc. (State/One-Stop) | Houston, TX | 06/22/16 | 06/21/16
91946 | York Metal Toll Processing (State/One-Stop) | Syracuse, NY | 06/22/16 | 06/21/16
91947 | Jennmar (Workers) | Cresson, PA | 06/22/16 | 06/21/16
91948 | Cascades Holdings US Inc. (Company) | Waterford, NY | 06/23/16 | 06/22/16
91949 | Align Networks, A Division of One Call Care Management (Workers) | Canonsburg, PA | 06/23/16 | 06/22/16
91950 | Corbis Corporation (State/One-Stop) | Seattle, WA | 06/23/16 | 06/20/16
91951 | Noranda Alumina, LLC (Company) | Gramercy, LA | 06/23/16 | 06/21/16
91952 | Maersk Line (Company) | Oakbrook Terrace (please also include info for other locations), IL | 06/23/16 | 05/26/16
91953 | Mercer Lime Co. (Union) | Slippery Rock, PA | 06/23/16 | 06/06/16
91954 | Siemens (Workers) | Orlando, FL | 06/24/16 | 06/23/16
91955 | ARRIS Group, Inc. (State/One-Stop) | Suwanee, GA | 06/24/16 | 06/23/16
91956 | ITW Filtration Products (Company) | Mazon, IL | 06/24/16 | 06/23/16
91957 | Joy Global Inc. (Workers) | Eighty Five, PA | 06/24/16 | 06/23/16
91958 | ClearOne Inc. (Workers) | Salt Lake City, UT | 06/24/16 | 06/22/16

[FR Doc. 2016-16830 Filed 7-15-16; 8:45 am]

BILLING CODE 4510-FN-P